ENVIRONMENTAL PROTECTION AGENCY

[ER-FRL-6621-7]

Environmental Impact Statements and Regulations; Availability of EPA Comments

Availability of EPA comments prepared pursuant to the Environmental Review Process (ERP), under Section 309 of the Clean Air Act and Section 102(2)(c) of the National Environmental Policy Act as amended. Requests for copies of EPA comments can be directed to the Office of Federal Activities at (202) 564-7167.

An explanation of the ratings assigned to draft environmental impact statements (EISs) was published in FR dated May 18, 2001 (97 FR 27647).

Draft EISs

ERP No. D-AFS-J65350-MT Rating EC2, West Lake Timber Sale and Road Decommissioning Project, Implementation, Gallatin National Forest, Hebgen Lake Ranger District, Gallatin County, MT.

Summary: EPA recommends including a higher level of road decommissioning in the preferred alternative, since reductions in road density are critical to aquatic health and wildlife security, including the threatened grizzly bear. Additional information should be presented regarding erosive soils, fisheries impacts and aquatic monitoring.

ERP No. D-BLM-K65233-NV Rating EC2, Falcon to Gonder 345kV Transmission Project, Construction, Resource Management Plan Amendments, Right-of-Way Grant, Lander, Elko, Eureka and White Pine Counties, NV.

Summary: EPA expressed concerns regarding the measures that would be used to minimize and mitigate project impacts to water quality. EPA recommended additional information regarding Clean Water Act Section 404 compliance, water quality mitigation measures, and polychlorinated biphenyls.

ERP No. D-COE-K39067-CA Rating EC2, Salinas Valley Water Project, Construction, Monterey County Water Resources Agency (MCWRA), Issuing of Permits or Approval of Action, Monterey and San Luis Obispo Counties, CA.

Summary: EPA expressed concern relating to impacts associated with basin hydrology, recreation, energy, potential growth inducement, riparian habitat, endangered Steelhead Salmon and the narrow scope of alternatives analyzed.

ERP No. D-COE-K39069-CA Rating LO, Pine Flat Dam Fish and Wildlife Habitat Restoration Investigation, Restoration and Protection of the Ecosystem for Fish and Wildlife Resources, King River Basin, Fresno County, CA.

Summary: While EPA has no objections to the action as proposed, it did request that some clarifying information be included in the FEIS.

ERP No. D-NOA-K39068-CA Rating LO, San Francisco Bay National Estuarine Research Reserve, Proposes to Designate Three Sites: China Camp State Park, Brown's Island Regional Parks District, and Rush Ranch Open Space Preserve, Contra Costa, Marin and Solano Counties, CA.

Summary: EPA had no objections to the proposed designation, but noted that anticipated facility construction or reconstruction would require supplemental environmental documentation.

ERP No. D-USN-K11106-HI Rating EC2, Programmatic EIS—Ford Island Development Program, Proposed Consolidation of Selected Operation at Pearl Harbor by Locating and Relocating Certain Activities Ford Island, HI.

Summary: EPA expressed environmental concerns due to potential water quality impacts, especially as it affects the water quality of Pearl Harbor, designated by EPA as a water quality-limited segment under the Clean Water Act. EPA requested that water quality protection measures and additional pollution prevention measures be include in future environmental documents.

Dated: September 4, 2001.
B. Katherine Biggs,
Associate Director, NEPA Compliance Division, Office of Federal Activities.

[FR Doc. 01-22548 Filed 9-6-01; 8:45 am]

BILLING CODE 6560-50-U